ENVIRONMENTAL PROTECTION AGENCY

40 CFR Parts 239 and 258

[EPA-R01-RCRA-2010-0676; FRL-9193-2]

Adequacy of New Hampshire Municipal Solid Waste Landfill Permit Program

AGENCY: Environmental Protection Agency (EPA).

ACTION: Proposed rule.

SUMMARY: EPA Region 1 proposes to approve New Hampshire's modification of its approved Municipal Solid Waste Landfill Program. On March 22, 2004, EPA issued final regulations allowing research, development, and demonstration (RD&D) permits to be issued to certain municipal solid waste landfills by approved states. On June 28, 2010 New Hampshire submitted an application to EPA Region 1 seeking Federal approval of its RD&D requirements.

DATES: Comments on this proposed action must be received in writing on or before November 1, 2010.

ADDRESSES: Submit your comments, identified by Docket ID No. EPA-R01-RCRA-2010-0676, by one of the following methods:

• http://www.regulations.gov: Follow the on-line instructions for submitting comments.

• E-mail: Hsieh.juiyu@epa.gov

• Fax: (617) 918-0646, to the attention of Juiyu Hsieh

• Mail: Send written comments to Juiyu Hsieh, RCRA Waste Management Section, Office of Site Remediation and Restoration (OSRR 07-1), EPA New England—Region I, 5 Post Office Square, Suite 100, Boston, MA 02109-3912

• Hand Delivery or Courier: Deliver your comments to: Juiyu Hsieh, RCRA Waste Management Section, Office of Site Restoration and Remediation (OSRR 07-1), EPA New England—Region I, 5 Post Office Square, Suite 100, Boston, MA 02109-3912. Such deliveries are only accepted during the Office's normal hours of operation.

For detailed instructions on how to submit comments, please see the direct final rule which is located in the Rules section of this Federal Register.

FOR FURTHER INFORMATION CONTACT: Juiyu Hsieh at (617) 918-1646 or by e-mail at hsieh.juiyu@epa.gov.

SUPPLEMENTARY INFORMATION: In the Rules section of this Federal Register, EPA is approving New Hampshire's Research Development and Demonstration (RD&D) permit program through a direct final rule without prior proposal because the Agency views this as a noncontroversial action and anticipates no adverse comments to this action. Unless we get written adverse comments which oppose this approval during the comment period, the direct final rule will become effective on the date it establishes, and we will not take further action on this proposal. If EPA receives adverse comments, the direct final rule will be withdrawn and all public comments received will be addressed in a subsequent final rule. EPA will not institute a second comment period on this action. Any parties interested in commenting on this action should do so at this time. For additional information, see the direct rule which is located in the Rules section of this Federal Register.

Dated: August 16, 2010.
Ira W. Leighton,
Acting Regional Administrator, EPA New England, Region 1.

[FR Doc. 2010-21119 Filed 8-30-10; 8:45 am]

BILLING CODE 6560-50-P